DEPARTMENT OF COMMERCE

Foreign-Trade Zones Board

[S-211-2024]

Foreign-Trade Zone 40; Application for Expansion of Subzone 40I; Swagelok Company; Solon, Ohio

An application has been submitted to the Foreign-Trade Zones (FTZ) Board by the Cleveland Cuyahoga County Port Authority, grantee of FTZ 40, requesting an expansion of Subzone 40I on behalf of Swagelok Company. The application was submitted pursuant to the provisions of the Foreign-Trade Zones Act, as amended (19 U.S.C. 81a-81u), and the regulations of the FTZ Board (15 CFR part 400). It was formally docketed on December 2, 2024.

The applicant is requesting authority to expand the subzone to include a new site located at 28000 F.A. Lennon Drive, Solon, Ohio (Site 14-15.7 acres). No authorization for additional production activity has been requested at this time. The expanded subzone would be subject to the existing activation limit of FTZ 40.

In accordance with the FTZ Board's regulations, Juanita Chen of the FTZ Staff is designated examiner to review the application and make recommendations to the Executive Secretary.

Public comment is invited from interested parties. Submissions shall be addressed to the FTZ Board's Executive Secretary and sent to: ftz@trade.gov. The closing period for their receipt is January 14, 2025. Rebuttal comments in response to material submitted during the foregoing period may be submitted through January 29, 2025.

A copy of the application will be available for public inspection in the “Online FTZ Information Section” section of the FTZ Board's website, which is accessible via www.trade.gov/ftz.

For further information, contact Juanita Chen at juanita.chen@trade.gov.

Dated: December 2, 2024.
Elizabeth Whiteman,
Executive Secretary.

[FR Doc. 2024-28473 Filed 12-4-24; 8:45 am]

BILLING CODE 3510-DS-P